DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 69 FR 63154-63156, dated October 29, 2004, is amended to reflect the Order of Succession for the Centers for Disease Control and Prevention.

Section C-C, Order of Succession:

Delete in its entirety Section C-C, Order of Succession, and insert the following:

During the absence or disability of the Director, Center for Disease Control and Prevention (CDC), or in the event of a vacancy in that office, the first official listed below who is available shall act as Director, except that during a planned period of absence, the Director may specify a different order of succession:

1. Chief Operating Officer, CDC.

2. Chief of Science, CDC.

3. Chief of Public Health Improvement.

4. Director, Coordinating Center for Infectious Diseases.*

* official organizational structure pending approval.

Dated: December 13, 2004.
William H. Gimson,
Chief Operating Officer, Centers for Disease Control and Prevention (CDC).

[FR Doc. 04-28377 Filed 12-27-04; 8:45 am]

BILLING CODE 4160-18-M